DEPARTMENT OF TRANSPORTATION

National Highway Traffic Safety Administration

[Docket No. NHTSA-2008-0012; Notice 2]

Chrysler, LLC, Grant of Petition for Decision of Inconsequential Noncompliance

Chrysler, LLC (Chrysler) has determined that certain vehicles that it manufactured during the period of October 1, 2003 through August 28, 2007, do not fully comply with either paragraph S4.3.3 of 49 CFR 571.110 (Federal Motor Vehicle Safety Standards (FMVSS) No. 110, Tire Selection and Rims for Motor Vehicles With a GVWR of 4,536 Kilograms (10,000 Pounds) or Less), or paragraph S5.3 of 49 CFR 571.120 (FMVSS No. 120, Tire Selection and Rims for Vehicles Other Than Passenger Cars)—depending on when the vehicle was manufactured. On November 6, 2007, Chrysler filed an appropriate report pursuant to 49 CFR Part 573, Defect and Noncompliance Responsibility and Reports identifying approximately 154,000 model year 2005-2008 Dodge Magnum multipurpose passenger vehicles (MPV), and approximately 103,000 model year 2007-2008 Jeep Compass and Jeep Patriot MPVs that do not comply with the paragraphs of FMVSS Nos. 110 and 120 cited above.

Pursuant to 49 U.S.C. 30118(d) and 30120(h) and the rule implementing those provisions at 49 CFR Part 556, Chrysler has petitioned for an exemption from the notification and remedy requirements of 49 U.S.C. Chapter 301 on the basis that this noncompliance is inconsequential to motor vehicle safety. Notice of receipt of the petition was published, with a 30-day public comment period, on January 29, 2008 in the Federal Register (73 FR 5262). No comments were received. To view the petition and all supporting documents log onto the Federal Docket Management System (FDMS) Web site at: http://www.regulations.gov/. Then follow the online search instructions to locate docket number “NHTSA-2008-0012.”

For further information on this decision, contact Mr. John Finneran, Office of Vehicle Safety Compliance, the National Highway Traffic Safety Administration (NHTSA), telephone (202) 366-0645, facsimile (202) 366-7097.

Paragraphs S4.3.3 of 49 CFR 571.110 and S5.3 of 49 CFR 571.120 require that:

4.3.3 of 49 CFR 571.110

Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by Sec. 567.4 or Sec. 567.5 of this chapter. This information shall be in the English language, lettered in block capitals and numerals not less than 2.4 millimeters high and in the following format:

Truck Example—Suitable Tire-Rim Choice

GVWR: 2,441 kilograms (5381 pounds).

GAWR: Front—1,299 kilograms (2,864 pounds) with P265/70R16 tires, 16 x 8.0 rims at 248 kPa (36 psi) cold single.

GAWR: Rear—1,299 kilograms (2,864 pounds) with P265/70R16 tires, 16 x 8.00 rims, at 248 kPa (36 psi) cold single.

S5.3 Label information of 49 CFR 571.120

Each vehicle shall show the information specified in S5.3.1 and S5.3.2 and, in the case of a vehicle equipped with a non-pneumatic spare tire, the information specified in S5.3.3, in the English language, lettered in block capitals and numerals not less than 2.4 millimeters high and in the format set forth following this section. This information shall appear either—

(a) After each GAWR listed on the certification label required by Sec. 567.4 or Sec. 567.5 of this chapter; or, at the option of the manufacturer,

(b) On the tire information label affixed to the vehicle in the manner, location and form described in Sec. 567.4 (b) through (f) of this chapter, as appropriate for each GVWR-GAWR combination listed on the certification label.

S5.3.1 Tires. The size designation (not necessarily for the tires on the vehicle) and the recommended cold inflation pressure for those tires such that the sum of the load ratings of the tires on each axle (when the tires' load carrying capacity at the specified pressure is reduced by dividing by 1.10, in the case of a tire subject to FMVSS No. 109) is appropriate for the GAWR as calculated in accordance with S5.1.2.

S5.3.2. Rims. The size designation and, if applicable, the type designation of Rims (not necessarily those on the vehicle) appropriate for those tires.

Truck Example—Suitable Tire-Rim Choice

GVWR: 7,840 KG (17,289 LB)

GAWR: FRONT—2,850 KG (6,280 LB) WITH 7.50-20(D) TIRES, 20 x 6.00 RIMS AT 520 KPA (75 PSI) COLD SINGLE

GAWR: REAR—4,990 KG (11,000 LB) WITH 7.50-20(D) TIRES, 20 x 6.00 RIMS, AT 450 KPA (65 PSI) COLD DUAL

GVWR: 13,280 KG (29,279 LB)

GAWR: FRONT—4,826 KG (10,640 LB) WITH 10.00-20(F) TIRES, 20 x 7.50 RIMS, AT 620 KPA (90 PSI) COLD SINGLE

GAWR: REAR—8,454 KG (18,639 LB) WITH 10.00-20(F) TIRES, 20 x 2.70 RIMS, AT 550 KPA (80 PSI) COLD DUAL

S5.3.3 The non-pneumatic tire identification code, with which that assembly is labeled pursuant to S4.3(a) of Sec. 571.129.

Chrysler described the noncompliance as the omission of required tire and rim information on the certification labels.

Chrysler explained that S4.3.3 of FMVSS No. 110, which applies only to vehicles other than passenger cars with a GVWR of 10,000 pounds or less, and which went into effect on September 1, 2005, provides as follows: “Each vehicle shall show the size designation and, if applicable, the type designation of rims (not necessarily those on the vehicle) appropriate for the tire appropriate for use on that vehicle, including the tire installed as original equipment on the vehicle by the vehicle manufacturer, after each GAWR [Gross Axle Weight Rating] listed on the certification label required by § 567.4 or § 567.5 of this chapter * * *” Prior to September 1, 2005, similar requirements set out in S5.3 of FMVSS No. 120 applied to all non-passenger cars, regardless of their GVWR. Approximately 94,718 Dodge Magnums manufactured prior to September 1, 2005 failed to meet the requirements of FMVSS No. 120 and the remainder of the subject vehicles failed to meet the requirements of FMVSS No. 110.

Chrysler further explained that although the certification labels on the vehicles in question do not contain the appropriate tire and rim information after the specified GAWRs, the rim size and type are marked on the rims themselves. And, the size designation for the tires on each vehicle, which also reflects the size of the rims on the vehicle, is included on the tire placard affixed to the B-pillar on each vehicle, as required by S4.3(d) of FMVSS No. 110 for vehicles manufactured after September 1, 2005. Additionally, Magnums manufactured prior to September 1, 2005 had a Tire and Loading Information Label containing the relevant tire and rim size affixed to the B-pillar. Thus, the relevant rim information is clearly available to each vehicle owner and operator.

Chrysler also stated that it has not received any consumer complaints regarding the absence of rim size information on the subject certification label.

In addition, Chrysler stated that it has corrected the problem that caused these errors so that they will not be repeated in future production and that it believes that because the noncompliance is inconsequential to motor vehicle safety that no corrective action is warranted.

NHTSA Decision

NHTSA agrees with Chrysler that this noncompliance will not have an adverse effect on vehicle safety. Since rim size and type information are marked on the wheels of the vehicles, and the rim diameter can be determined from the tire size on the placard attached to some of the vehicles, the information needed to ensure that the vehicles are equipped with the proper rims and compatible tires is readily available to potential users.

In consideration of the foregoing, NHTSA has decided that Chrysler has met its burden of persuasion that the labeling noncompliances described are inconsequential to motor vehicle safety. Accordingly, Chrysler's petition is granted and the petitioner is exempted from the obligation of providing notification of, and a remedy for, the noncompliances under 49 U.S.C. 30118 and 30120.

Authority: 49 U.S.C. 30118, 30120; delegations of authority at 49 CFR 1.50 and 501.8.

Issued on: July 2, 2008.
Daniel C. Smith,
Associate Administrator for Enforcement.

[FR Doc. E8-15662 Filed 7-9-08; 8:45 am]

BILLING CODE 4910-59-P